DEPARTMENT OF TRANSPORTATION

Federal Aviation Administration

14 CFR Part 71

[Docket No. 2015-3375; Amendment No. 71-47]

RIN 2120-AA66

Airspace Designations; Incorporation by Reference Amendments

AGENCY: Federal Aviation Administration (FAA), DOT.

ACTION: Final rule, technical amendment.

SUMMARY: This action incorporates certain amendments into FAA Order 7400.9Z, dated August 6, 2015, and effective September 15, 2015, for incorporation by reference in 14 CFR 71.1.

DATES: Effective date 0901 UTC October 6, 2015. The Director of the Federal Register approves this incorporation by reference action under 1 CFR part 51, subject to the annual revision of FAA Order 7400.9 and publication of conforming amendments.

ADDRESSES: FAA Order 7400.9Z, Airspace Designations and Reporting Points, and subsequent amendments can be viewed on line at http://www.faa.gov/airtraffic/publications/. For further information, you can contact the Airspace Policy Group, Federal Aviation Administration, 800 Independence Avenue SW., Washington, DC 20591; telephone: (202) 267-8783. The Order is also available for inspection at the National Archives and Records Administration (NARA). For information on the availability of this material at NARA, call (202) 741-6030, or go to http://www.archives.gov/federal_register/code_of_federal-regulations/ibr_locations.html.

FAA Order 7400.9, Airspace Designations and Reporting Points, is published yearly and effective on September 15.

FOR FURTHER INFORMATION CONTACT: Sarah A. Combs, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order 7400.9, Airspace Designations and Reporting Points, incorporated by reference in 14 CFR 71.1, is published yearly. Amendments referred to as “effective date straddling amendments” were published under Order 7400.9Y (dated August 6, 2014, and effective September 15, 2014), but became effective under Order 7400.9Z (dated August 6, 2015, and effective September 15, 2015). This action incorporates these rules into the current FAA Order 7400.9Z.

Accordingly, as this is an administrative correction to update final rule amendments into FAA Order 7400.9Z, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This action amends title 14 Code of Federal Regulations (14 CFR) Part 71 to incorporate certain final rules into the current FAA Order 7400.9Z, Airspace Designations and Reporting Points, dated August 6, 2015, and effective September 15, 2015, which are depicted on aeronautical charts.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. Section 71.1 is revised to read as follows:

For Docket No. FAA-2015-2219; Airspace Docket No. 15-AWA-5 (80 FR 42708, July 20, 2015). On page 42709, column 1, line 3, under ADDRESSES; and on page 42709, column 2, line 62 and line 65, under Availability and Summary of Documents for Incorporation by Reference remove “. . . FAA Order 7400.9Y, . . .” and add in its place “. . . FAA Order 7400.9Z, . . .”. On page 42709, column 2, line 59, under Availability and Summary of Documents for Incorporation by Reference; and on page 42710, column 1, line 33, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2014-0565; Airspace Docket No. 14-ACE-7 (80 FR 43311, July 22, 2015). On page 43311, column 3, line 17, under ADDRESSES; and on page 43312, column 1, line 31 and line 34, under Availability and Summary of Documents for Incorporation by Reference remove “. . . FAA Order 7400.9Y, . . .” and add in its place “. . . FAA Order 7400.9Z, . . .”. On page 43312, column 1, line 17, under History; and on page 43312, column 1, line 28, under Availability and Summary of Documents for Incorporation by Reference; and on page 43312, column 1, line 49, under The Rule; and on page 43312, column 2, line 45, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2014-1067; Airspace Docket No. 14-ANM-15 (80 FR 43312, July 22, 2015). On page 43312, column 3, line 38, under ADDRESSES; and on page 43313, column 2, line 2 and line 5, under Availability and Summary of Documents for Incorporation by Reference remove “. . . FAA Order 7400.9Y, . . .” and add in its place “. . . FAA Order 7400.9Z, . . .”. On page 43313, column 1, line 55, under History; and on page 43313, column 1, line 65, under Availability and Summary of Documents for Incorporation by Reference; and on page 43313, column 3, line 22, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-0046; Airspace Docket No. 14-ASO-23 (80 FR 44841, July 28, 2015). On page 44841, column 2, line 45, under ADDRESSES; and on page 44841, column 3, line 60 and line 63, under Availability and Summary of Documents for Incorporation by Reference remove “. . . FAA Order 7400.9Y, . . .” and add in its place “. . . FAA Order 7400.9Z, . . .”. On page 44841, column 3, line 45, under History; and on page 44841, column 3, line 56, under Availability and Summary of Documents for Incorporation by Reference; and on page 44842, column 1, line 17, under The Rule; and on page 44842, column 2, line 16, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-0458; Airspace Docket No. 15-ASO-2 (80 FR 44842, July 28, 2015). On page 44842, column 3, line 7, under ADDRESSES; and on page 44843, column 1, line 18 and line 21, under Availability and Summary of Documents for Incorporation by Reference remove “. . . FAA Order 7400.9Y, . . .” and add in its place “. . . FAA Order 7400.9Z, . . .”. On page 44843, column 1, line 4, under History; and on page 44843, column 1, line 14, under Availability and Summary of Documents for Incorporation by Reference; and on page 44843, column 2, line 32, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-0044; Airspace Docket No. 15-ASO-3 (80 FR 44843, July 28, 2015). On page 44843, column 3, line 29, under ADDRESSES; and on page 44844, column 1, line 44 and line 47, under Availability and Summary of Documents for Incorporation by Reference remove “. . . FAA Order 7400.9Y, . . .” and add in its place “. . . FAA Order 7400.9Z, . . .”. On page 44844, column 1, line 30, under History; and on page 44844, column 1, line 41, under Availability and Summary of Documents for Incorporation by Reference; and on page 44844, column 2, line 56, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2014-0968; Airspace Docket No. 14-ASO-17 (80 FR 44844, July 28, 2015). On page 44845, column 1, line 1, under ADDRESSES; and on page 44845, column 2, line 12 and line 15, under Availability and Summary of Documents for Incorporation by Reference remove “. . . FAA Order 7400.9Y, . . .” and add in its place “. . . FAA Order 7400.9Z, . . .”. On page 44845, column 1, line 64, under History; and on page 44845, column 2, line 9, under Availability and Summary of Documents for Incorporation by Reference; and on page 44845, column 3, line 28, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-1135; Airspace Docket No. 15-ANM-9 (80 FR 48425, August 13, 2015). On page 48425, column 1, line 41, under ADDRESSES; and on page 48425, column 3, line 7 and line 10, under Availability and Summary of Documents for Incorporation by Reference remove “. . . FAA Order 7400.9Y, . . .” and add in its place “. . . FAA Order 7400.9Z, . . .”. On page 48425, column 2, line 51, under History; and on page 48425, column 3, line 4, under Availability and Summary of Documents for Incorporation by Reference; and on page 48426, column 1, line 32, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-1481; Airspace Docket No. 15-AWP-1 (80 FR 48426, August 13, 2015). On page 48426, column 2, line 31, under ADDRESSES; and on page 48426, column 3, line 47 and line 50, under Availability and Summary of Documents for Incorporation by Reference remove “. . . FAA Order 7400.9Y, . . .” and add in its place “. . . FAA Order 7400.9Z, . . .”. On page 48426, column 3, line 34, under History; and on page 48426, column 3, line 44, under Availability and Summary of Documents for Incorporation by Reference; and on page 48427, column 1, line 58, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-1650; Airspace Docket No. 14-AEA-8 (80 FR 48427, August 13, 2015). On page 48427, column 3, line 3, under ADDRESSES remove “. . . FAA Order 7400.9Y, . . .” and add in its place “. . . FAA Order 7400.9Z, . . .”. On page 48427, column 3, line 58, under Background remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-0691; Airspace Docket No. 15-ANM-6 (80 FR 48428, August 13, 2015). On page 48428, column 2, line 11, under ADDRESSES; and on page 48428, column 3, line 24 and line 27, under Availability and Summary of Documents for Incorporation by Reference remove “. . . FAA Order 7400.9Y, . . .” and add in its place “. . . FAA Order 7400.9Z, . . .”. On page 48428, column 3, line 10, under History; and on page 48428, column 3, line 21, under Availability and Summary of Documents for Incorporation by Reference; and on page 48429, column 1, line 41, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-1134; Airspace Docket No. 15-ANM-7 (80 FR 48429, August 13, 2015). On page 48429, column 2, line 58, under ADDRESSES; and on page 48430, column 1, line 7 and line 10, under Availability and Summary of Documents for Incorporation by Reference remove “. . . FAA Order 7400.9Y, . . .” and add in its place “. . . FAA Order 7400.9Z, . . .”. On page 48429, column 3, line 60, under History; and on page 48430, column 1, line 4, under Availability and Summary of Documents for Incorporation by Reference; and on page 48430, column 2, line 22, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-1133; Airspace Docket No. 15-ANM-8 (80 FR 48430, August 13, 2015). On page 48430, column 3, line 22, under ADDRESSES; and on page 48431, column 1, line 32 and line 35, under Availability and Summary of Documents for Incorporation by Reference remove “. . . FAA Order 7400.9Y, . . .” and add in its place “. . . FAA Order 7400.9Z, . . .”. On page 48431, column 1, line 19, under History; and on page 48431, column 1, line 29, under Availability and Summary of Documents for Incorporation by Reference; and on page 48431, column 2, line 52, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-0671; Airspace Docket No. 15-ANM-5 (80 FR 48431, August 13, 2015). On page 48431, column 3, line 57, under ADDRESSES; and on page 48432, column 2, line 15 and line 18, under Availability and Summary of Documents for Incorporation by Reference remove “. . . FAA Order 7400.9Y, . . .” and add in its place “. . . FAA Order 7400.9Z, . . .”. On page 48432, column 2, line 2, under History; and on page 48432, column 2, line 12, under Availability and Summary of Documents for Incorporation by Reference; and on page 48432, column 3, line 42, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-3325; Airspace Docket No. 15-AWP-15 (80 FR 48686, August 14, 2015). On page 48686, column 3, line 3, under ADDRESSES; and on page 48687, column 1, line 13 and line 16, under Availability and Summary of Documents for Incorporation by Reference remove “. . . FAA Order 7400.9Y, . . .” and add in its place “. . . FAA Order 7400.9Z, . . .”. On page 48686, column 3, line 65, under History; and on page 48687, column 1, line 10, under Availability and Summary of Documents for Incorporation by Reference; and on page 48687, column 2, line 23, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2014-1070; Airspace Docket No. 14-ANM-9 (80 FR 51121, August 24, 2015). On page 51121, column 3, line 40, under ADDRESSES; and on page 51122, column 2, line 25 and line 28, under Availability and Summary of Documents for Incorporation by Reference remove “. . . FAA Order 7400.9Y, . . .” and add in its place “. . . FAA Order 7400.9Z, . . .”. On page 51122, column 2, line 13, under History; and on page 51122, column 2, line 22, under Availability and Summary of Documents for Incorporation by Reference; and on page 51122, column 3, line 56, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

For Docket No. FAA-2015-1623; Airspace Docket No. 15-AWP-10 (80 FR 52392, August 31, 2015). On page 52392, column 2, line 32, under ADDRESSES; and on page 52392, column 3, line 45 and line 48, under Availability and Summary of Documents for Incorporation by Reference remove “. . . FAA Order 7400.9Y, . . .” and add in its place “. . . FAA Order 7400.9Z, . . .”. On page 52392, column 3, line 32, under History; and on page 52392, column 3, line 42, under Availability and Summary of Documents for Incorporation by Reference; and on page 52393, column 1, line 61, under Amendatory Instruction 2 remove “. . . FAA Order 7400.9Y, Airspace Designations and Reporting Points, dated August 6, 2014, and effective September 15, 2014, . . .” and add in its place “. . . FAA Order 7400.9Z, Airspace Designations and Reporting Points, dated August 6, 2015, and effective September 15, 2015, . . .”.

Issued in Washington, DC, on September 29, 2015.
Gary A. Norek,
Manager, Airspace Policy Group.

[FR Doc. 2015-25306 Filed 10-5-15; 8:45 am]

BILLING CODE 4910-13-P